DEPARTMENT OF THE INTERIOR

Bureau of Land Management

[BLM-AK-FRN-MO4500180311]

Notice of Availability of the Final Coastal Plain Oil and Gas Leasing Program Supplemental Environmental Impact Statement, Alaska

AGENCY: Bureau of Land Management, Interior.

ACTION: Notice of availability.

SUMMARY: In compliance with the National Environmental Policy Act of 1969, as amended (NEPA), the Bureau of Land Management (BLM) announces the availability of the Final Supplemental Environmental Impact Statement (SEIS) for the Coastal Plain Oil and Gas Leasing Program.

DATES: The BLM will issue a decision on the Leasing Program no sooner than 30 days after the date that the Environmental Protection Agency (EPA) publishes its Notice of Availability (NOA) in the Federal Register. The EPA usually publishes its NOAs on Fridays.

ADDRESSES: The Final Leasing SEIS and related documents are available for review on the BLM ePlanning project website at https://eplanning.blm.gov/eplanning-ui/project/2015144/510.

FOR FURTHER INFORMATION CONTACT: At the BLM: Serena Sweet, Branch Chief of Planning and Project Management; telephone: 907-271-4345; email: ssweet@blm.gov. Stephanie Kuhns, Planning and Environmental Specialist; telephone: 907-271-4208; email: skuhns@blm.gov.

At the United States Fish and Wildlife Service (USFWS): Bobbie Jo Skibo, Strategic Conservation and Coastal Plain Coordinator; telephone: 907-441-1539; email: bobbiejo_skibo@fws.gov.

Individuals in the United States who are deaf, deafblind, hard of hearing, or have a speech disability may dial 711 (TTY, TDD, or TeleBraille) to access telecommunications relay services for contacting Ms. Sweet. Individuals outside the United States should use the relay services offered within their country to make international calls to the point-of-contact in the United States.

SUPPLEMENTARY INFORMATION: The Final Leasing SEIS was developed by the BLM and USFWS as joint lead agencies to address deficiencies in the 2019 Coastal Plain Oil and Gas Leasing Program Environmental Impact Statement (EIS) and the 2020 Record of Decision (ROD) implementing the Arctic National Wildlife Refuge Coastal Plain Oil and Gas Leasing Program (85 FR 51754).

The joint lead agencies have prepared this Leasing SEIS in accordance with NEPA to implement an oil and gas leasing program in the Coastal Plain of the Arctic National Wildlife Refuge. This Leasing SEIS serves to inform BLM's implementation of the Public Law 115-97, section 20001(c)(1), requirement to hold two lease sales of at least 400,000 acres each by December 22, 2024. It also informs management of on-the-ground oil and gas activities, including seismic and drilling exploration, development, and transportation of oil and gas in and from the Coastal Plain.

The Leasing SEIS considers and analyzes the environmental impacts of four action alternatives for implementation of an oil and gas program in the Coastal Plain, including the areas to offer for sale, and the indirect impacts that could result in consideration of hypothetical development. The joint lead agencies have identified Alternative D2 as their preferred alternative. This Leasing SEIS does not authorize on-the-ground oil and gas exploration or development activities; it evaluates which lands will be made available for lease and the terms and conditions to be applied to leases and on-the-ground oil and gas activities. Future on-the-ground actions requiring BLM approval, including proposed exploration plans and development proposals, would require further NEPA analysis based on the project-specific proposal.

Although section 20001(a)(2) and (b)(2)(A) of Public Law 115-97 assigns responsibility to the BLM for administering the oil and gas program, it is understood that all activities, including plan development, study development, and consideration of exceptions, modifications, waivers, or any operations that are proposed to be conducted on the surface of the Coastal Plain would include close coordination with the USFWS to ensure that its considerations as the surface management agency would be taken into account. In addition, the BLM would consult or coordinate with other appropriate federal, state, and North Slope Borough agencies, Tribal Governments, Alaska Native Claims Settlement Act corporations, and other Native organizations as appropriate.

Comments on the Draft Leasing SEIS received from the public and internal BLM and USFWS review were considered and incorporated as appropriate into the Final SEIS. In response to public comment and cooperating agency input, the joint lead agencies developed alternative D2, a variation on alternative D.

(Authority: 40 CFR 1506.6, 40 CFR 1506.10)

Steven M. Cohn,
BLM Alaska State Director.

[FR Doc. 2024-26039 Filed 11-7-24; 8:45 am]

BILLING CODE 4331-10-P